SECURITIES AND EXCHANGE COMMISSION

Submission for OMB Review; Comment Request

Upon written request, copies available from: Securities and Exchange Commission, Office of Filings and Information Services, Washington, DC 20549

Extension:

Rule 19d-3; SEC File No. 270-245; OMB Control No. 3235-0204.

Notice is hereby given that, pursuant to the Paperwork Reduction Act of 1995 (44 U.S.C. 3501 et seq.), the Securities and Exchange Commission (“Commission”) has submitted to the Office of Management and Budget a request for extension of the previously approved collection of information discussed below.

Rule 19d-3 under the Securities Exchange Act of 1934 (the “Exchange Act”) prescribes the form and content of applications to the Commission for review of final disciplinary sanctions, denials of membership, participation or association or prohibitions or limitations of access to services that are imposed by self-regulatory organizations (“SROs”). The Commission uses the information provided in the application filed pursuant to Rule 19d-3 to review final actions taken by SROs including: (1) Disciplinary sanctions; (2) denials of membership, participation or association; and (3) prohibitions on or limitations of access to SRO services.

It is estimated that approximately 15 respondents will utilize this application procedure annually, with a total burden for all respondents of 270 hours, based upon past submissions. The staff estimates that the average number of hours necessary to comply with the requirements of Rule 19d-3, to complete each submission, is 18 hours. The average cost per hour for completion of each submission is approximately $101. Therefore, the total cost of compliance for all respondents, per year is $27,270. (15 submissions × 18 hours × $101 per hour).

A respondent is not required to retain the Rule 19d-3 submission for any specified period of time. The filing of a motion seeking review of a final action is mandatory only if the respondent wants Commission review. The submission does not involve the collection of confidential information. Please note that an agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503 or send an e-mail to: David_Rostker@omb.eop.gov; and (ii) R. Corey Booth, Director/CIO, Office of Information Technology, Securities and Exchange Commission, 450 Fifth Street, NW., Washington, DC 20549. Comments must be submitted to OMB within 30 days of this notice.

Dated: June 1, 2004.
Margaret H. McFarland,
Deputy Secretary.

[FR Doc. 04-12898 Filed 6-7-04; 8:45 am]

BILLING CODE 8010-01-P